DEPARTMENT OF COMMERCE

Foreign-Trade Zones Board

[Order No. 1369]

Expansion of Foreign-Trade Zone 57, Charlotte, NC

Pursuant to its authority under the Foreign-Trade Zones Act of June 18, 1934, as amended (19 U.S.C. 81a|81u), the Foreign-Trade Zones Board (the Board) adopts the following Order:

Whereas, the North Carolina Department of Commerce, grantee of FTZ 57, submitted an application to the Board for authority to expand the zone to include sites at the Lakemont West Business Park, the West Logistics facility, the West Pointe Business Park, and the Ridge Creek Distribution Center in Charlotte (Mecklenburg County), within the Charlotte Customs port of entry (FTZ Docket 41-2004; filed 9/2/04);

Whereas, notice inviting public comment was given in the Federal Register (69 FR 55405, 9/14/04) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 57 is approved, subject to the Act and the Board's regulations, including section 400.28, and subject to the Board's standard 2,000-acre activation limit for the overall zone project, and further subject to a sunset provision that would terminate authority for the proposed sites on January 31, 2012, unless the sites are activated under FTZ procedures.

Signed in Washington, DC, this 9th day of February, 2005.
Joseph A. Spetrini,
Acting Assistant Secretary of Commerce for Import Administration, Alternate Chairman, Foreign-Trade Zones Board.
Attest:
Dennis Puccinelli,
Executive Secretary.

[FR Doc. 05-3809 Filed 2-25-05; 8:45 am]

BILLING CODE 3510-DS-P